LEGAL SERVICES CORPORATION

Sunshine Act Meeting of the Board of Directors

TIME AND DATE: The Board of Directors of the Legal Services Corporation will meet on September 18, 2000. The meeting will begin at 12:30 p.m. and continue until conclusion of the Board's agenda.

LOCATION: San Francisco Marriott, 55 Fourth Street, San Francisco, California 94103.

STATUS OF MEETING: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (2), (4), (6) and (10)] and the corresponding provisions of the Legal Services Corporation's implementing regulation [45 CFR § 1622.5 (a), (c), (e) and (h)]. A copy of the LSC Senior

Assistant General Counsel's Certification that the closing is authorized by law will be available upon request.

MATTERS TO BE CONSIDERED: Open Session

1. Approval of agenda.

2. Approval of the minutes of the Board's meeting of June 26, 2000.

3. Approval of the minutes of the executive session of the Board's meeting of June 26, 2000.

4. Approval of minutes of the Board's telephonic meeting of August 1, 2000.

5. Scheduled Public Speakers.

6. Chairman's Report.

7. Members' Report.

8. Inspector General's Report.

9. President's Report.

10. Consider and act on the report of the Board's Committee on Provision for the Delivery of Legal Services.

11. Consider and act on the report of the Board's Finance Committee.

12. Consider and act on the report of the Board's Operations and Regulations Committee.

13. Establish the Board's FY 2000 Annual Performance Reviews Committee to conduct the fiscal year 2000 annual performance appraisals of LSC's President and Inspector General.

14. Consider and act on the establishment of an independent panel, and delegation to the Board Chair of authority to appoint the membership thereof, to study and report to the Board on the impact of LSC restrictions on the services that LSC grantees provide to clients.

15. Consider and act on report by OIG Liaison John Erlenborn concerning OIG issuance and enforcement of subpoenas on Georgia programs.

16. Consider and act on proposed change of the currently scheduled March 2001 Board meeting date.

Closed Session

17. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 C.F.R. § 1622.2 & 1622.3

18. Consider and act on the Office of Legal Affairs' report on potential and pending litigation involving LSC.

19. Consider and act on an LSC officer's request for Board consent to his performing some limited services to a non-LSC entity during his own time.

Open Session

20. Consider and act on other business.

21. Public Comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Shannon Nicko Adaway, at (202) 336-8800.

Dated: September 7, 2000.
Victor M. Fortuno,
Vice President for Legal Affairs, General Counsel & Corporate Secretary.

[FR Doc. 00-23515 Filed 9-8-00; 2:11 pm]

BILLING CODE 7050-01-P